ENVIRONMENTAL PROTECTION AGENCY

[EPA-HQ-OPP-2017-0751; FRL-11659-02-OCSPP]

Pesticide Registration Review; Decisions for Several Pesticides; Notice of Availability; Technical Correction

AGENCY: Environmental Protection Agency (EPA).

ACTION: Notice; correction.

SUMMARY: In the Federal Register of March 7, 2024, EPA issued a notice to announce the availability of EPA's interim registration review decision for etofenprox, and the final registration review decision for acetominophen. That notice incorrectly included a DATES section that established a comment deadline of May 6, 2024. A comment period is not necessary or appropriate for that document because the decision announced in that document are final for the interim phase of the process for etofenprox and a final decision for acetominophen. This document corrects that document by reaffirming the nature of all the decisions announced in that document and by closing the comment period it incorrectly established.

DATES: The comment period established in the Federal Register of March 7, 2024, is hereby closed on March 15, 2024.

ADDRESSES: The docket for this action, identified by docket identification (ID) number EPA-HQ-OPP-2017-0751, is available online at https://www.regulations.gov. Additional instructions for visiting the docket, along with more information about dockets generally, is available at https://www.epa.gov/dockets.

FOR FURTHER INFORMATION CONTACT: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION: Pursuant to 40 CFR 155.58, EPA issued a notice in the Federal Register of March 7, 2024 (89 FR 16563) (FRL-11659-01-OCSPP), to announce the availability of EPA's interim registration review decision for etofenprox, and the final registration review decision for acetominophen. As described in that document, EPA previously sought public comment on the proposed registration review decisions.

Subsequent to the publication of that notice, EPA identified that it incorrectly included a DATES section that established a comment deadline of May 6, 2024. A comment period is not necessary or appropriate for that document because the decisions announced in that document are complete. As a result, EPA is issuing this document to reaffirm the nature of the decisions announced in that document and to close the comment period it incorrectly established.

Background on the registration review program is provided at: https://www.epa.gov/pesticide-reevaluation.

Authority: 7 U.S.C. 136 et seq.

Dated: March 11, 2024.
Timothy Kiely,
Acting Director, Pesticide Re-Evaluation Division, Office of Pesticide Programs.

[FR Doc. 2024-05628 Filed 3-14-24; 8:45 am]

BILLING CODE 6560-50-P